FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 26, 2023.

A. Federal Reserve Bank of Atlanta (Erien O. Terry, Assistant Vice President), 1000 Peachtree Street NE, Atlanta, Georgia 30309; Comments can also be sent electronically to Applications.Comments@atl.frb.org:

1. John Gregory Batchelor, John Gregory Mitchell Batchelor, Rebecca Ann Batchelor Reeves, Ray Bradley Reeves, Hilda Olivia Batchelor, and John John II LLC, all of Russellville, Alabama; and John Bradley Batchelor Reeves, Tuscumbia, Alabama; as a group acting in concert, to retain voting shares of Pinnacle Bancshares, Inc., and thereby indirectly retain voting shares of Pinnacle Bank, both of Jasper, Alabama.

2. Wirt Adams Yerger, Jr. Legacy Trust, Jackson, Mississippi, Wirt Adams Yerger IV, as trustee, Ridgeland, Mississippi; to join the Yerger Family Group, as a group acting in concert, to retain voting shares of PriorityOne Capital Corporation, and thereby indirectly retain voting shares of PriorityOne Bank, both of Magee, Mississippi.

Board of Governors of the Federal Reserve System.
Michele Taylor Fennell,
Deputy Associate Secretary of the Board.

[FR Doc. 2023-22489 Filed 10-10-23; 8:45 am]

BILLING CODE P